DEPARTMENT OF THE TREASURY

Submission for OMB Review; Comment Request

April 7, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 15, 2006 to be assured of consideration.

Bureau of Public Debt

OMB Number: 1535-0136.

Type of Review: Extension.

Title: Application for Refund of Purchase Price of United States Savings Bonds for Organizations.

Form: PDF 5410.

Description: Used by an organization to request refund of purchase price of United States Savings Bonds.

Respondents: Business or other for-profit and Not-for-profit institutions.

Estimated Total Burden Hours: 300 hour.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building Washington, DC 20503.

Michael A. Robinson,
Treasury PRA Clearance Officer.

[FR Doc. E6-5510 Filed 4-12-06; 8:45 am]

BILLING CODE 4810-39-P